DEPARTMENT OF COMMERCE

National Oceanic and Atmospheric Administration

50 CFR Part 622

[I.D. 122303G]

RIN 0648-AP95

Fisheries of the Caribbean, Gulf of Mexico, and South Atlantic; Reef Fish Fishery of the Gulf of Mexico; Rebuilding Plan for Red Grouper in the Gulf of Mexico

AGENCY: National Marine Fisheries Service (NMFS), National Oceanic and Atmospheric Administration (NOAA), Commerce.

ACTION: Notice of availability of a Secretarial amendment; request for comments.

SUMMARY: NMFS, acting through the Gulf of Mexico Fishery Management Council (Council), has prepared Secretarial Amendment 1 to the Reef Fish Fishery Management Plan (Secretarial Amendment 1) that would establish a 10-year stock rebuilding plan for red grouper in the Gulf of Mexico. Secretarial Amendment 1 would also establish biological reference points and stock status determination criteria for red grouper consistent with the requirements of the Magnuson-Stevens Fishery Conservation and Management Act (Magnuson-Stevens Act). In addition, Secretarial Amendment 1 would establish measures designed to protect other shallow-water grouper, deep-water grouper, and tilefishes from any potential shifts in fishing mortality that might occur as a result of the red grouper rebuilding plan. The intended effect of Secretarial Amendment 1 is to end overfishing and rebuild the red grouper resource consistent with the requirements of the Magnuson-Stevens Act.

DATES: Comments must be received no later than 4:30 p.m., eastern time, on March 8, 2004.

ADDRESSES: Written comments on Secretarial Amendment 1 must be sent to Phil Steele, Southeast Regional Office, NMFS, 9721 Executive Center Drive N., St. Petersburg, FL 33702. Comments may also be sent via fax to 727-570-5583. Comments will not be accepted if submitted via e-mail or Internet.

Copies of Secretarial Amendment 1, which includes an environmental assessment, an initial regulatory flexibility analysis, and a regulatory impact review are available from NMFS at the address above.

FOR FURTHER INFORMATION CONTACT: Phil Steele, telephone: 727-570-5305, fax: 727-570-5583, e-mail: Phil.Steele@noaa.gov.

SUPPLEMENTARY INFORMATION: The reef fish fishery in the exclusive economic zone of the Gulf of Mexico is managed under the Fishery Management Plan for the Reef Fish Resources of the Gulf of Mexico (FMP). The FMP was prepared by the Council and is implemented under the authority of the Magnuson-Stevens Act by regulations at 50 CFR part 622.

Background

In October 2000, NMFS declared that the Gulf stock of red grouper had been overfished and was undergoing overfishing. This determination was based on the results of a 1999 red grouper stock assessment and subsequent analysis by the NMFS Southeast Fisheries Science Center and the Council's Reef Fish Stock Assessment Panel. Subsequently, a 2002 stock assessment found that, although overfishing is still occurring, the stock is in an improved condition and is no longer overfished. However, the stock has not yet reached the biomass level that is capable of producing MSY on a continuing basis (BMSY). Therefore, measures to end overfishing and a rebuilding plan to restore the stock to the BMSY level in 10 years or less are still necessary.

Provisions of Secretarial Amendment 1

Secretarial Amendment 1 proposes to establish a 10-year red grouper rebuilding plan, structured in 3-year intervals, that would end overfishing and rebuild the stock to MSY. The rebuilding plan seeks to achieve a 9.4-percent reduction in the recreational and commercial harvest of red grouper, relative to the average landings for 1999-2001, during the first 3 years of the 10-year rebuilding plan. Measures to accomplish this reduction equitably for the commercial and recreational sectors of the fishery include (1) establishing a red grouper commercial quota of 5.31 million lb (2.38 million kg), gutted weight; (2) establishing a 2-fish red grouper recreational bag limit (within the aggregate 5-fish grouper bag limit); and (3) including a provision that would close the entire shallow-water grouper commercial fishery when either the red grouper quota or the shallow-water grouper quota is reached. The appropriate measures for the subsequent 3-year intervals, consistent with the overall provisions of the rebuilding plan, would be determined based on the latest stock assessments available at that time.

Secretarial Amendment 1 also includes measures designed to protect other shallow-water grouper, deep-water grouper, and tilefishes from any potential shift in fishing mortality that might result from implementation of the red grouper rebuilding plan. These measures include (1) a reduction of the shallow-water grouper commercial quota from 9.35 million lb (4.24 million kg) to 8.80 million lb (4.0 million kg), gutted weight; (2) a reduction of the deep-water grouper commercial quota from 1.35 million lb (0.61 million kg) to 1.02 million lb (0.46 million kg), dressed weight; and (3) establishment of a commercial quota of 0.44 million lb (0.20 million kg), gutted weight, for all tilefishes in the management unit, combined.

In addition, Secretarial Amendment 1 would establish biological reference points and stock status determination criteria for red grouper (i.e., maximum sustainable yield (MSY), optimum yield (OY), maximum fishing mortality threshold (MFMT), and minimum stock size threshold (MSST)), consistent with the requirements of the Magnuson-Stevens Act.

NMFS has submitted Secretarial Amendment 1 for agency review, approval, and implementation. NMFS is also evaluating the proposed rule that would implement Secretarial Amendment 1 to determine whether it is consistent with the amendment, the Magnuson-Stevens Act, and any other applicable law. If that determination is affirmative, NMFS will publish the proposed rule in the Federal Register for public review and comment.

NMFS' decision regarding approval of Secretarial Amendment 1 will be based on consideration of comments received on this notice of availability by 4:30 p.m., eastern time, on March 8, 2004. All comments received by NMFS on the amendment or the proposed rule during the respective comment periods will be addressed in the final rule.

Authority: 16 U.S.C. 1801 et seq.

Dated: January 2, 2004.
Bruce C. Morehead,
Acting Director, Office of Sustainable Fisheries, National Marine Fisheries Service.

[FR Doc. 04-379 Filed 1-7-04; 8:45 am]

BILLING CODE 3510-22-S